DEPARTMENT OF THE INTERIOR

Bureau of Land Management

[LLWY-957000-XXX-L19100000-BJ0000-LRCSKX00300A; LLCO-956000-XXX-L19100000-BJ0000-LRCSCX913400; LLCO-956000-XXX-L19100000-BJ0000-LRCSCX914400; LLWY-926000-21X-L14400000-BJ0000-LXSSK1810000]

Filing of Plats of Survey, Nebraska and Wyoming

AGENCY: Bureau of Land Management, Interior.

ACTION: Notice of official filing.

SUMMARY: The Bureau of Land Management (BLM) is scheduled to file plats of survey 30 calendar days from the date of this publication in the BLM Wyoming State Office, Cheyenne, Wyoming. These surveys, which were executed at the request of the Bureau of Indian Affairs, U.S. Forest Service, and the BLM, are necessary for the management of these lands.

DATES: Protests must be received by the BLM prior to the scheduled date of official filing by November 1, 2021.

ADDRESSES: You may submit written protests to the Wyoming State Director at WY926, Bureau of Land Management, 5353 Yellowstone Road, Cheyenne, Wyoming 82009.

FOR FURTHER INFORMATION CONTACT: Sonja Sparks, BLM Wyoming Chief Cadastral Surveyor, by telephone at (307) 775-6225 or by email at s75spark@blm.gov. Persons who use a telecommunications device for the deaf (TDD) may call the Federal Relay Service at 1-800-877-8339 to contact this office during normal business hours. The Service is available 24 hours a day, 7 days a week, to leave a message or question with this office. You will receive a reply during normal business hours.

SUPPLEMENTARY INFORMATION: The plats of survey of the following described lands are scheduled to be officially filed in the BLM Wyoming State Office, Cheyenne, Wyoming.

Sixth Principal Meridian, Wyoming

T. 25 N., R. 6 E., Group No. NE189, dependent resurvey and survey, accepted September 7, 2021

T. 50 N., R. 83 W., Group No. 1028, dependent resurvey, accepted September 7, 2021

T. 47 N., R. 85 W., Group No. 1029, dependent resurvey and survey, accepted September 7, 2021

T. 43 N., R. 106 W., Group No. 1030, dependent resurvey, accepted September 7, 2021

T. 33 N., R 81 W., Group No. 1032, dependent resurvey and survey, accepted September 7, 2021

A person or party who wishes to protest one or more plats of survey identified in this notice must file a written notice of protest within 30 calendar days from the date of this publication with the Wyoming State Director at the above address. Any notice of protest received after the scheduled date of official filing will be untimely and will not be considered. A written statement of reasons in support of a protest, if not filed with the notice of protest, must be filed with the State Director within 30 calendar days after the notice of protest is filed. If a notice of protest against a plat of survey is received prior to the scheduled date of official filing, the official filing of the plat of survey identified in the notice of protest will be stayed pending consideration of the protest. A plat of survey will not be officially filed until the next business day following dismissal or resolution of all protests of the plat.

Before including your address, phone number, email address, or other personal identifying information in your protest, you should be aware that your entire protest—including your personal identifying information—may be made publicly available at any time. While you can ask us to withhold your personal identifying information from public review, we cannot guarantee that we will be able to do so.

Copies of the preceding described plat and field notes are available to the public at a cost of $4.20 per plat and $0.15 per page of field notes. Requests can be made to blm_wy_survey_records@blm.gov or by telephone at 307-775-6222.

(Authority: 43 U.S.C., chapter 3)

Dated: September 7, 2021.
Sonja S. Sparks,
Chief Cadastral Surveyor of Wyoming and Nebraska.

[FR Doc. 2021-21401 Filed 9-30-21; 8:45 am]

BILLING CODE 4310-22-P